DEPARTMENT OF JUSTICE

Antitrust Division

Notice Pursuant to the National Cooperative Research and Production Act of 1993—USB Flash Drive Alliance

Notice is hereby given that, on May 9, 2005, pursuant to Section 6(a) of the National Cooperative Research and Production Act of 1993, 15 U.S.C. 4301 et seq. (“the Act”), USB Flash Drive Alliance (“UFDA”) has filed written notifications simultaneously with the Attorney General and the Federal Trade Commission disclosing changes in its membership. The notifications were filed for the purpose of extending the Act's provisions limiting the recovery of antitrust plaintiffs to actual damages under specified circumstances. Specifically, International Microsystems, Inc., Milpitas, CA; Add On Technology Co., Ltd., Taipei, Taiwan; Alcor Micro Corp., Taipei, Taiwan; Global Ware Solutions, Inc., Havenhill, MA; and Peripheral Enhancements Corp., Dallas, TX have been added as parties to this venture. Also, DataFab, Taipei, Taiwan; and Viking Interworks, Rancho Santa Margarita, CA have withdrawn as parties to this venture.

No other changes have been made in either the membership or planned activity of the group research project. Membership in this group research project remains open, and UFDA intends to file additional written notification disclosing all changes in membership.

On November 12, 2003, UFDA filed its original notification pursuant to Section 6(a) of the Act. The Department of Justice published a notice in the Federal Register pursuant to Section 6(b) of the Act on December 12, 2003 (68 FR 69423).

The last notification was filed with the Department on June 21, 2004. A notice was published in the Federal Register pursuant to Section 6(b) of the Act on July 23, 2004 (59 FR 44063).

Dorothy B. Fountain,
Deputy Director of Operations, Antitrust Division.

[FR Doc. 05-11012 Filed 6-2-05; 8:45 am]

BILLING CODE 4410-11-M